POSTAL SERVICE

39 CFR Part 111

Waiver of Signature Delivery Process

AGENCY: Postal Service™.

ACTION: Proposed rule.

SUMMARY: The Postal Service proposes revisions to the Mailing Standards of the United States Postal Service, Domestic Mail Manual (DMM®) to update the standards regarding delivery of Express Mail® items with waiver of signature requested and return receipt for merchandise items with waiver of signature requested. We propose that employees deliver these shipments without first attempting to obtain a signature from the addressee.

DATES: We must receive your comments on or before July 24, 2008.

ADDRESSES: Mail or deliver written comments to the Manager, Mailing Standards, U.S. Postal Service, 475 L'Enfant Plaza SW., Room 3436, Washington, DC 20260-3436. You may inspect and photocopy all written comments, Monday through Friday between 9 a.m. and 4 p.m., USPS Headquarters Library, 475 L'Enfant Plaza SW., 11th Floor N, Washington, DC. Do not submit comments via fax or e-mail.

FOR FURTHER INFORMATION CONTACT: Monica Grein at 202-268-8411.

SUPPLEMENTARY INFORMATION: Currently, the delivery employee attempts to obtain a signature from the addressee even when the sender has authorized a waiver of signature for Express Mail items or items mailed with a return receipt for merchandise. Waiver of signature authorizes delivery to be made without obtaining the signature of the addressee or addressee's agent as long as the delivery employee establishes the article can be left in the addressee's mail receptacle or other secure location. By requesting waiver of signature, the sender agrees to accept the delivery time and date scan information as valid record of delivery.

The new process will allow a delivery employee to sign the PS Form 3849, Sorry We Missed You, without attempting to obtain a signature from the addressee. After signing the PS Form 3849, the delivery employee will deliver the item to the addressee's mail receptacle or other secure location. This process will expedite delivery time because the delivery employee will not be required to try to obtain a signature from the addressee or addressee's agent, when a waiver of signature is authorized.

Although exempt from the notice and comment requirements of the Administrative Procedure Act [5 U.S.C. of 553(b), (c)] regarding proposed rulemaking by 39 U.S.C. 410(a), the Postal Service invites public comments on the following proposed revisions to Mailing Standards of the United States Postal Service, Domestic Mail Manual (DMM®), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

100 Retail Letters, Cards, Flats, and Parcels

* * * * *

110 Express Mail

113 Prices and Eligibility

* * * * *

4.0 Service Features of Express Mail

4.1 General

* * * * *

[Revise the text of the first and second sentences in item b as follows:]

b. When a waiver of signature is authorized by the mailer, the delivery employee signs upon delivery. The item is delivered to the addressee's mail receptacle or other secure location.* * *

* * * * *

115 Mail Preparation

* * * * *

2.0 Express Mail Next Day and Second Day

* * * * *

2.2 Waiver of Signature

[Revise the text of 2.2 as follows:]

A mailer sending an Express Mail item may instruct the USPS to deliver an Express Mail Next Day Delivery or Express Mail Second Day Delivery item without obtaining the signature of the addressee or the addressee's agent by checking and signing the waiver of signature on Label 11-B or Label 11-F, Express Mail Post Office to Addressee, or indicating waiver of signature is requested on single ply commercial label. Completion of the waiver of signature authorizes the delivery employee to sign upon delivery. The item is delivered to the addressee's mail receptacle or other secure location. Mailers who request waiver of signature will be provided only the delivery date and time, and not an image of the signature when accessing delivery information on the Internet or when calling the toll-free number.

* * * * *

400 Commercial Parcels

* * * * *

410 Express Mail

413 Prices and Eligibility

* * * * *

4.0 Service Features of Express Mail

4.1 General

* * * * *

[Revise the text of the first and second sentences in item b as follows:]

b. When a waiver of signature is authorized by the mailer, the delivery employee signs upon delivery. The item is delivered to the addressee's mail receptacle or other secure location. * * *

* * * * *

415 Mail Preparation

* * * * *

2.0 Express Mail Next Day and Second Day

* * * * *

2.2 Waiver of Signature

[Revise the text of 2.2 as follows:]

A mailer sending an Express Mail item may instruct the USPS to deliver an Express Mail Next Day Delivery or Express Mail Second Day Delivery item without obtaining the signature of the addressee or the addressee's agent by checking and signing the waiver of signature on Label 11-B or Label 11-F, Express Mail Post Office to Addressee, or indicating waiver of signature is requested on single ply commercial label. Completion of the waiver of signature authorizes the delivery employee to sign upon delivery. The item is delivered to the addressee's mail receptacle or other secure location. Mailers who request waiver of signature will be provided only the delivery date and time, and not an image of the signature when accessing delivery information on the Internet or when calling the toll-free number.

* * * * *

500 Additional Mailing Services

503 Extra Services

* * * * *

8.0 Return Receipt for Merchandise

* * * * *

8.3 Mailing

* * * * *

8.3.2 How To Mail

A mailer can obtain Form 3804 and Form 3811 (return receipt) at the Post Office or from any rural carrier. Observe these procedures:

* * * * *

[Revise item f as follows:]

f. By signing the waiver on Form 3804, customers are instructing the USPS to deliver the item without obtaining the addressee's or addressee's agent's signature. Completion of the waiver of signature authorizes the delivery employee to sign upon delivery. The item is delivered to the addressee's mail receptacle or other secure location. To request waiver of signature, detach both parts of the gummed sections of label 3804 and attach to the mailpiece.

* * * * *

We will publish an appropriate amendment to 39 CFR part 111 if our proposal is adopted.

Neva Watson,
Attorney, Legislative.

[FR Doc. E8-15212 Filed 7-8-08; 8:45 am]

BILLING CODE 7710-12-P